DEPARTMENT OF HEALTH AND HUMAN SERVICES

Administration for Children and Families

[OMB #: 0970-0407]

Proposed Information Collection Activity; Office of Refugee Resettlement Cash and Medical Assistance Program Quarterly Report on Expenditures and Obligations (ORR-2)

AGENCY: Office of Refugee Resettlement, Administration for Children and Families, U.S. Department of Health and Human Services.

ACTION: Request for public comments.

SUMMARY: The Office of Refugee Resettlement (ORR) is requesting a 3-year extension of the ORR-2: Cash and Medical Assistance (CMA) Program Quarterly Report on Expenditures and Obligations (OMB #: 0970-0407, expiration February 28, 2026). Minor changes are proposed to the form and instructions.

DATES: Comments due November 21, 2025.

ADDRESSES: In compliance with the requirements of the Paperwork Reduction Act of 1995, the Administration for Children and Families (ACF) is soliciting public comment on the specific aspects of the information collection described above. You can obtain copies of the proposed collection of information and submit comments by emailing infocollection@acf.hhs.gov. Identify all requests by the title of the information collection.

SUPPLEMENTARY INFORMATION:

Description: ORR reimburses, to the extent of available appropriations, certain non-federal costs for the provision of CMA to refugees, along with allowable expenses for the administration of the refugee resettlement program at the state level. States and Replacement Designees currently submit the ORR-2 Quarterly Report on Expenditures and Obligations, which provides aggregate expenditure and obligation data. The ORR-2 collects expenditures and obligations data separately for each of the following four CMA program components: refugee cash assistance, refugee medical assistance, CMA administration, and services for unaccompanied refugee minors. This breakdown of financial status data allows ORR to track program expenditures in greater detail to anticipate any funding issues and to meet the requirements of ORR regulations at 45 CFR 400.211 to collect these data for use in estimating future costs of the refugee resettlement program. ORR must implement the methodology at 45 CFR 400.211 each year after receipt of its annual appropriation to ensure that appropriated funds will be adequate for reimbursement to states for the costs of assistance provided to eligible refugees. The estimating methodology prescribed in the regulations requires the use of actual past costs by program component. If the methodology indicates that appropriated funds are inadequate, ORR must take steps to reduce federal expenses, such as by limiting the number of months of eligibility for Refugee Cash Assistance and Refugee Medical Assistance. The ORR-2 is a single-page financial report that allows ORR to collect the necessary data to ensure that funds are adequate for the projected need and thereby meet the requirements of both the Refugee Act and ORR regulations.

Minor changes to the names of certain lines on the ORR-2 are proposed to align with changes proposed for the ORR-1 form in a Federal Register notice published on June 24, 2025, at 90 FR 26819 (https://www.federalregister.gov/d/2025-11546), and approved by OMB in August 2025 (https://www.reginfo.gov/public/do/PRAViewIC?ref_nbr=202506-0970-018&icID=9799). ORR also proposes minor changes to the instructions to align with the Uniform Administrative Requirements, Cost Principles, and Audit Requirement for Federal Awards at 2 CFR part 200.

Respondents: State governments and Replacement Designees.

Annual Burden Estimates:

Instrument | Total number of respondents | Annual number of responses per respondent | Average burden hours per response | Annual burden hours
Cash and Medical Assistance Program, Quarterly Report on Expenditures and Obligations | 57 | 4 | 1.5 | 342

Comments: The Department specifically requests comments on (a) whether the proposed collection of information is necessary for the proper performance of the functions of the agency, including whether the information shall have practical utility; (b) the accuracy of the agency's estimate of the burden of the proposed collection of information; (c) the quality, utility, and clarity of the information to be collected; and (d) ways to minimize the burden of the collection of information on respondents, including through the use of automated collection techniques or other forms of information technology. Consideration will be given to comments and suggestions submitted within 60 days of this publication.

(Authority: 8 U.S.C. 1521-1524.)

Mary C. Jones,
ACF/OPRE Certifying Officer.

[FR Doc. 2025-18280 Filed 9-19-25; 8:45 am]

BILLING CODE 4184-45-P